DEPARTMENT OF COMMERCE

International Trade Administration

[A-570-502]

Certain Iron Construction Castings from the People's Republic of China; Amended Final Results of Antidumping Duty Administrative Review in Accordance with Court Decision

AGENCY: Import Administration, International Trade Administration, U.S. Department of Commerce.

ACTION: Notice of Amended Final Results of Antidumping Duty Administrative Review in accordance with Court Decision.

SUMMARY: On September 10, 1999, the Court of International Trade affirmed the remand determination of the Department of Commerce (the Department) arising from the 1990-1991 administrative review of the antidumping duty order on certain iron construction castings from the People's Republic of China (PRC). See D & L Supply Co. v. United States, 6 F. Supp. 2d 914 (CIT 1998), aff'd Guangdong Metals & Minerals Import & Export Corporation v. United States, 217 F. Supp. 3d 851 (Fed. Cir. 1999) (unpublished opinion). As there is now a final and conclusive court decision in this segment, we will instruct the U.S. Customs Service to liquidate entries subject to these amended final results.

EFFECTIVE DATE: September 9, 2002

FOR FURTHER INFORMATION CONTACT: Christian Hughes, Doug Campau or Maureen Flannery, Antidumping/Countervailing Duty Enforcement, Import Administration, International Trade Administration, U.S. Department of Commerce, 14th Street and Constitution Avenue, N.W., Washington D.C. 20230; telephone (202) 482-0648, (202) 482-1395, and (202) 482-3020, respectively.

SUPPLEMENTARY INFORMATION:

Scope of Antidumping Duty Order

This order covers certain iron construction castings, limited to manhole covers, rings and frames, catch basins, grates and frames, cleanout covers and frames used for drainage or access purposes for public utility, water and sanitary systems, and to valve, service and meter boxes which are placed below ground to encase water, gas or other valves, or water or gas meters. The articles must be of cast iron, not alloyed, and not malleable. Until January 1, 1989, iron construction castings were classified under items 657.0950 and 657.0990 of the Tariff Schedules of the United States Annotated (TSUSA). This merchandise is currently classified under Harmonized Tariff System (HTS) items 7325.10.00.00 and 7325.10.00.50. The HTS and TSUSA item numbers are provided for convenience and Customs purposes. The written description remains dispositive of the scope of the order.

Background

On May 9, 1986, the Department issued an antidumping duty order on iron construction castings from the PRC. See Antidumping Duty Order: Iron Construction Castings from the People's Republic of China, 51 FR 17222 (May 9, 1986) (Antidumping Duty Order). On June 8, 1992, the Department published its final results of the fourth administrative review of iron construction castings, covering the 1990-1991 review period. See Certain Iron Construction Castings from the People's Republic of China; Final Results of Antidumping Duty Administrative Review, 57 FR 24245 (June 8, 1992) (Final Results).

No PRC producer or exporter responded to the Department's questionnaires in this review. The Department based its determination entirely on the best information available (BIA), pursuant to 19 U.S.C. 1677e(c) (1988). This BIA rate was assigned both as a separate rate for Guangdong Metals and Minerals Import and Export Corporation (Guangdong), which had previously been granted a separate rate, and as the PRC-wide rate applied to all other producers and exporters of the subject merchandise for the 1990-1991 review period. See Final Results.

In accordance with its practice, for BIA the Department selected 92.74 percent, the rate calculated during the third administrative review (1989-90) for Guangdong, and the highest calculated rate available for any company from the investigation of sales at less than fair value or any previous review. See Iron Construction Castings from the People's Republic of China; Final Results of Antidumping Duty Administrative Reviews, 57 FR 10644 (March 27, 1992). The Department's Final Results were appealed on two grounds that are relevant to these amended final results.

First, importer Overseas Trade Corporation (Overseas) argued that its supplier, China National Machinery Import and Export Corporation (MACHIMPEX Liaoning), had no notice that it was subject to the review, and that its MACHIMPEX Liaoning entries should be assessed at the 11.66 percent deposit rate that it had paid upon importation. The Court of International Trade agreed that under the circumstances of this case, MACHIPEX Liaoning could not be deemed within the scope of the review, and remanded for the Department to assess duties against MACHIMPEX Liaoning at the 11.66 percent deposit rate Overseas had paid upon importation. D & L Supply Co. v. United States, 841 F. Supp. 1312, 1316 (CIT 1993). This issue was not further appealed. The Department is amending its Final Results to provide that Overseas' MACHIMPEX Liaoning entries for the 1990-91 review period will be liquidated at the 11.66 percent deposit rate.

Second, exporter Guangdong and a group of importers including D & L Supply Company argued that the Department erred in using the 1989-90 rate for Guangdong as a BIA rate for the 1990-91 entries, because at the time of the Final Results, this rate was subject to judicial review. By the time the Court of International Trade issued its first decision on the 1990-91 Final Results, the 92.74 percent rate for Guangdong in the 1989-90 review had been overturned in Sigma Corp. v. United States, 841 F. Supp. 1275 (CIT 1993)). See D & L Supply Co. v. United States, 841 F. Supp. 1312, 1314 (CIT 1993). Because litigation in the 1990-91 review was not yet final, the Court also ordered the Department to reevaluate whether its choice of BIA for Guangdong and the PRC-wide entity in the 1990-91 review continued to be appropriate. Id. at 1317. On remand, the Department determined that, because the 92.74 rate was a valid one when it was originally selected as BIA for the 1990-91 review, it was appropriate to continue to rely upon that rate. The Court of International Trade upheld that determination. D & L Supply Co. v. United States, 888 F. Supp. 1191 (CIT 1995).

On May 8, 1997, however, the Court of Appeals for the Federal Circuit (CAFC) reversed this decision, holding that the Department must revise its BIA selection for the 1990-1991 review in favor of a rate which had not been invalidated at the time the BIA redetermination was issued. D & L Supply Co. v. United States, 113 F. 3d 1220 (Fed. Cir. 1997) (D & L Supply). On July 8, 1997, in accordance with the decision of the Court of Appeals in D&L Supply, the Court of International Trade issued an order remanding the final results of the 1990-1991 review to the Department for selection of new BIA rates for Guangdong and the PRC-wide entity.

On October 8, 1997, the Department released its Final Results of Redetermination Pursuant to Court Remand, D & L Supply Co. v. United States. Consol. Ct. No. 92-06-00424 (Remand Results) (October 8, 1997). Therein, the Department assigned to Guangdong and the PRC-wide entity the 25.52 percent petition rate, which reflected the overall average of the margins alleged in the petition, as BIA for the 1990-91 review period. See D & L Supply Co. v. United States, 6 F. Supp. 2d 914 (CIT 1998) (affirming the Department's Remand Results and rejecting the theory that publication of a different investigation rate “invalidates” petition rates). D & L Supply Co., U.V. International, Sigma Corporation, Southern Star, Inc., City Pipe & Foundry, Inc., and Long Beach Iron Works, Inc. (collectively, D & L) appealed that judgment. On September 10, 1999, the CAFC affirmed the lower Court's decision. Guangdong Metals & Minerals Import and Export Corp. v. United States, 217 F.3d 851 (Fed. Cir. 1999).

There is now a final and conclusive court decision in this action. We are amending our Final Results for the period May 1, 1990 through April 30, 1991. The rates for these amended final results, which are the rates upheld by the Court of International Trade and the CAFC upon remand, are:

Period of Review | Manufacturer/exporter | Margin(percent)
5/1/1990-4/30/1991 | Guangdong Metals & Minerals Import & Export Corporation | 25.52
5/1/1990-4/30/1991 | PRC-wide rate* | 25.52
* As explained above, the Court of International Trade determined that China National Machinery Import and Export Corporation (MACHIMPEX Liaoning) is not within the scope of review for the 1990-91 period of review. Duties for Overseas Trade Corporation (Overseas) imports from MACHIMPEX Liaoning are to be assessed at the 11.66 percent deposit rate that Overseas paid upon importation, rather than at the PRC-wide rate.

Accordingly, the Department will determine, and the Customs Service will assess, antidumping duties on all entries of subject merchandise in accordance with these amended final results. The Department will issue appraisement instructions directly to Customs. Because the 1990-91 review is the most recent proceeding in which exports by Guangdong have been reviewed, upon publication of these amended final results of review, a cash deposit rate of 25.52 percent for exports by Guangdong will be effective for all shipments of subject merchandise entered, or withdrawn from warehouse, for consumption on or after the publication date, as provided by §751(a) of the Tariff Act of 1930, as amended (the Tariff Act). These results do not affect the PRC-wide cash deposit rate currently in effect (which also applies to MACHIMPEX Liaoning), which continues to be based on the margins found to exist in the most recently completed review. (See Iron Construction Castings from the People's Republic of China; Final Results of Antidumping Administrative Review, 60 FR 51454 (October 2, 1995).)

This notice is published in accordance with §751(a)(1) of the Tariff Act (19 U.S.C. 1675(a)(1)) and 19 CFR 351.221.

Dated: August 29, 2002.
Faryar Shirzad,
Assistant Secretary for Import Administration.

[FR Doc. 02-22842 Filed 9-6-02; 8:45 am]

BILLING CODE 3510-DS-S